DEPARTMENT OF DEFENSE

Office of the Secretary

[Docket ID: DOD-2020-OS-0044]

Proposed Collection; Comment Request

AGENCY: Office of the Under Secretary of Defense for Personnel & Readiness, DoD.

ACTION: Information collection notice.

SUMMARY: In compliance with the Paperwork Reduction Act of 1995, the Office of the Under Secretary of Defense for Personnel & Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 29, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please contact Angela James, Office of Information Management, Department of Defense, at 571-372-7574 or write to whs.mc-alex.esd.mbx.dd-dod-information-collections@mail.mil.

SUPPLEMENTARY INFORMATION:

Title; Associated Form; and OMB Number: Overseas Citizen Population Survey; OMB Control Number 0704-0539.

Needs and Uses: The primary objective of the Overseas Citizen Population Survey (OCPS), conducted on behalf of FVAP, is to refine FVAP's methodology for estimating the number of overseas U.S. civilians who are eligible to vote and who have registered and participated in the past. These estimates are then used to address the question of whether the registration and voting propensity of the overseas civilian population differs from that of comparable domestic or military populations. Subsequent to each Presidential election year, FVAP must report to Congress voter registration and participation rates for Uniformed Services voters and overseas citizens. Previous attempts to collect information on the overseas citizen population to identify and measure its voter registration and participation rates in Federal elections suffered from significant bias; this effort is focused on refining a well-established method to report voter registration and participation rates from a more well-defined subgroup of overseas civilians. Conducting this research will help FVAP meet its federal and congressional mandates in terms of reporting annually on its activities and overall voter registration and participation rates after each Presidential election. The data obtained through this study is also intended to provide insights into existing barriers to UOCAVA voting and recommendations for addressing these challenges. In 2018, data from the 2016 survey was used to identify the barriers that overseas citizens face in requesting, casting and returning their ballots—and, along with the 2018 data, which is just becoming available, will help shape FVAP's outreach to these voters in 2020 and beyond. The 2020 version of the OCPS will test awareness and efficacy of these efforts. The survey also identified that overseas voters are more likely to avail themselves of electronic options when requesting their ballots (compared to active duty military, who rely more often on postal mail). These results guided changes to the 2020 survey, which further probes this difference. Finally, the 2018 survey allows for a midterm-to-midterm comparison of the overseas voting experience from 2014 to 2018—and the 2020 version will permit a similar comparison to the 2016 presidential election.

To obtain the necessary information, the OCPS will use data collected from a sample of registered overseas civilian voters in conjunction with previous country level estimates developed by FVAP research and establish a research method to assist FVAP in reporting voter registration and participation rates for the 2020 election.

Affected Public: Individuals or Households.

Annual Burden Hours: 4,500 hours.

Number of Respondents: 18,000.

Responses per Respondent: 1.

Annual Responses: 18,000.

Average Burden per Response: 15 minutes.

Frequency: Biennially.

Dated: April 23, 2020.
Aaron T. Siegel,
Alternate OSD Federal Register Liaison Officer, Department of Defense.

[FR Doc. 2020-09054 Filed 4-28-20; 8:45 am]

BILLING CODE 5001-06-P